DEPARTMENT OF JUSTICE

Notice of Lodging of Consent Decree Pursuant to the Clean Water Act, the Resource Conservation and Recovery Act; and the Comprehensive Environmental Response, Compensation, and Liability Act

Consistent with Departmental policy, 28 CFR 50.7, notice is hereby given that a proposed Consent Decree in United States and the South Carolina Department of Health and Environmental Control (“SCDHEC”) v. Macalloy Corporation (D. S.C.), Civil Action No. 2:99-4234-18, was lodged with the United States District Court for the District of South Carolina on June 26, 2001. This decree resolves the potential liability of Macalloy alleged by the United States under Sections 309 and 402 of the Clean Water Act, 33 U.S.C. 1319 and 1342; Section 3008(g) of the Resource Conservation and Recovery Act, 42 U.S.C. 6928(g); and Section 48-1-330 of the South Carolina Pollution Control Act (“SCPCA”), S.C. Code Ann. § 48-1-330, and dismisses without prejudice claims under the Comprehensive Environmental Response, Compensation, and Liability Act (“CERCLA”), 42 U.S.C. 9601-9675. The proposed Decree provides that Macalloy will pay $300,000 from existing funds, with interest over time, and $900,000 additional from money currently held as a RCRA financial assurance, when the money becomes available. Macalloy is also required to control surface water discharges.

The Department of Justice will receive, for a period of thirty (30) days from the date of this publication, comments relating to the proposed Consent Decree. Comments should be addressed to the Assistant Attorney General for the Environment and Natural Resources Division, U.S. Department of Justice, P.O. Box 7611, Washington, D.C. 20044; and refer to United States and the South Carolina Department of Health and Environmental Control (“SCDHEC”) v. Macalloy Corporation (D. S.C.), DOJ Ref. #90-5-1-1-4431.

The proposed settlement agreement may be examined at the Office of the United States Attorney, Charleston, South Carolina and at the office of the Environmental Protection Agency, Region 4, Atlanta Federal Center, 61 Forsyth Street, SW, Atlanta, GA 30303-3104. A copy of the proposed Consent Decree may be obtained by mail from the Department of Justice Consent Decree Library, P.O. Box 7611, Washington, D.C. 20044. In requesting a copy please refer to the referenced case and enclose a check in the amount of $8 (Consent Decree only: 32 pgs) or $9.50 (Consent Decree with Appendices) (25 cents per page reproduction costs), payable to the Consent Decree Library.

Ellen M. Mahan,
Assistant Section Chief, Environmental Enforcement Section, Environment and Natural Resources Division.

[FR Doc. 01-17476 Filed 7-11-01; 8:45 am]

BILLING CODE 4410-15-M